DEPARTMENT OF TRANSPORTATION

Federal Aviation Administration

Notification of Proposed Delegation Programs and Request for Comment

AGENCY: Federal Aviation Administration (DOT).

ACTION: Notice of availability and request for public comment.

SUMMARY: This notice announces the availability of and request for public comments on the proposed new delegation programs (2) that will allow organizations to perform additional functions under the Federal Aviation Administration (FAA) Organization Designation Authorization (ODA) program. These two proposed ODA programs will provide: (1) Certification functions for rotorcraft-external load operator certificates under 14 CFR part 133 and (2) the delivery of written airman knowledge tests.

DATES: Comments must be received on or before January 17, 2011.

ADDRESSES: Send all comments on both proposed delegation programs and functions to: Federal Aviation Administration, Aircraft Certification Service, Delegation and Airworthiness Programs Branch, 6500 S. MacArthur Blvd, ARB Room 308, Oklahoma City, OK 73169, ATTN: Sam Colasanti. Or, you may e-mail comments to: samuel.r.colasanti@faa.gov. Include in the subject line of your message the following: Comments on Proposed ODA Programs and Functions.

FOR FURTHER INFORMATION CONTACT: Sam Colasanti, Aerospace Engineer, Federal Aviation Administration, Aircraft Certification Service, Aircraft Engineering Division, Delegation and Airworthiness Programs Branch, to address listed above or by phone at 405.954.7044.

SUPPLEMENTARY INFORMATION:

Comments Invited

Interested persons are invited to comment on the two (2) proposed ODA programs listed in this notice by submitting such written data, views, or arguments as they desire to the above specified address. Comments received on the two proposed ODA programs may be examined, before and after the comment closing date by making arrangements with the person listed in the “For Further Information Contact” paragraph above. All communications received on or before the closing date will be considered by the Director of the Aircraft Certification Service before approval of the two (2) programs.

Background

Air Operator ODA

The FAA plans to establish two (2) new ODA program types in addition to those already established by FAA Order 8100.15, Organization Designation Authorization Procedures. Proposed revisions to FAA Order 8100.15 are available for review, and may be accessed at http://www.faa.gov/aircraft/draft_docs/.

This new ODA program would allow organizations to conduct certification functions for the issuance of rotorcraft external-load operator certificates, in accordance with the requirements of 14 CFR part 133. The FAA anticipates a phased-in approach to this authority, with the FAA initially retaining authority for issuance of the certificate. The actual delegation of the issuance of the certificate would only be allowed after the ODA holder had successfully shown the ability to determine compliance with all aspects of 14 CFR part 133.

Air Operator ODAs would be appointed and managed by the geographic Flight Standards District Office under the authority of the Director, Flight Standards Service. The FAA anticipates granting Air Operator ODA to only a small number of organizations based on the organization's experience and the FAA's need to delegate the authority.

Knowledge Testing ODA

This new ODA program would allow organizations to administer automated airman tests and provide certified test results to applicants. These functions are currently performed by authorized Computer Testing Designees under the provisions of FAA Order 8080.6, Conduct of Airman Knowledge Tests. Consolidation of these functions under the ODA program will standardize and align their activities and the FAA's oversight, making them consistent with other forms of ODA programs.

Knowledge Testing ODAs would be appointed and managed by The Flight Standards Airman Testing Standards Branch, AFS-630, under the authority of the Director, Flight Standards Service. The FAA anticipates that existing computer testing designees will desire to transition to the ODA program, and other organizations may be appointed as needed to make testing services available to the public.

Issued in Washington, DC, on December 15, 2010.
Susan J.M. Cabler,
Assistant Manager, Aircraft Engineering Division, Aircraft Certification Service.

[FR Doc. 2010-31861 Filed 12-17-10; 8:45 am]

BILLING CODE 4910-13-M